DEPARTMENT OF THE INTERIOR

Office of the Secretary

[16XD4523WS\DS10100000\DWSN00000.000000\DP10020]

Statement of Findings: Shoshone-Paiute Tribes of the Duck Valley Reservation Water Rights Settlement Act

AGENCY: Office of the Secretary, Interior.

ACTION: Notice.

SUMMARY: The Secretary of the Interior is publishing this notice in accordance with section 10808(d) of the Shoshone-Paiute Tribes of the Duck Valley Reservation Water Rights Settlement Act of 2009 (Pub. L. 111-11) (Settlement Act). Congress enacted the Settlement Act as Title X, Subtitle C of the Omnibus Public Land Management Act of 2009. The publication of this notice causes the waivers and release of certain claims to become effective as required by the Settlement Act.

DATES: This notice is effective January 25, 2016.

FOR FURTHER INFORMATION CONTACT: Address all comments and requests for additional information to Catherine Wilson, Chair, Duck Valley Water Rights Settlement Implementation Team, Department of the Interior, Bureau of Indian Affairs, Western Region, 2600 N. Central Avenue, 4th Floor, Phoenix, AZ 85004. (602) 379-6789.

SUPPLEMENTARY INFORMATION: The Settlement Act was enacted to resolve the water right claims of the Shoshone-Paiute Tribes (Tribes) of the Duck Valley Reservation relative to the upstream water users in the East Fork of the Owyhee River in the State of Nevada (State). The non-federal settling parties submitted a signed Settlement Agreement (Agreement) to Congress prior to enactment of the Settlement Act. As described in section 10802, the purposes of the Settlement Act are:

(1) To resolve outstanding issues with respect to the East Fork of the Owyhee River in the State in such a manner as to provide important benefits to—(A) The United States; (B) the State; (C) the Tribes; and (D) the upstream water users;

(2) to achieve a fair, equitable, and final settlement of all claims of the Tribes, members of the Tribes, and the United States on behalf of the Tribes and members of Tribes to the waters of the East Fork of the Owyhee River in the State;

(3) to ratify and provide for the enforcement of the Agreement among the parties to the litigation;

(4) to resolve the Tribes' water-related claims for damages against the United States;

(5) to require the Secretary to perform all obligations of the Secretary under the Agreement and the Settlement Act; and

(6) to authorize the actions and appropriations necessary to meet the obligations of the United States under the Agreement and the Settlement Act.

Statement of Findings

In accordance with section 10808(d) of the Settlement Act, I find as follows:

(1) The Agreement and the waivers and releases authorized and set forth in sections 10808(a) and (b) of the Settlement Act have been executed by the parties and the Secretary;

(2) the Fourth Judicial District Court, Elko County, Nevada, has issued a judgment and decree consistent with the Agreement from which no further appeal can be taken; and

(3) the amounts authorized under sections 10807(b)(3) and (c)(3) of the Settlement Act have been appropriated.

Dated: January 19, 2016.
Sally Jewell,
Secretary of the Interior.

[FR Doc. 2016-01401 Filed 1-22-16; 8:45 am]

BILLING CODE 4334-63-P